DEPARTMENT OF JUSTICE

Antitrust Division

Notice Pursuant to the National Cooperative Research and Production Act of 1993—United Negro College Fund Special Programs Research and Development Consortium

Notice is hereby given that, on November 29, 2010, pursuant to Section 6(a) of the National Cooperative Research and Production Act of 1993, 15 U.S.C. 4301 et seq. (“the Act”), United Negro College Fund Special Programs Research and Development Consortium (“UNCFSP-RDC”) has filed written notifications simultaneously with the Attorney General and the Federal Trade Commission disclosing (1) the identities of the parties, and (2) the nature and objectives of the venture. The notifications were filed for the purpose of invoking the Act's provisions limiting the recovery of antitrust plaintiffs to actual damages under specified circumstances.

Pursuant to Section 6(b) of the Act, the identities of the parties are: Alabama A&M University, Normal, AL; Alabama State University, Montgomery, AL; Albany State University, Albany, GA; Alcorn State University, Alcorn State, MS; Benedict College, Columbia, SC; California State University at Fullerton, Fullerton, CA; California State University at San Bernardino, San Bernardino, CA; Cheyney University of Pennsylvania, Cheyney, PA; Claflin University, Orangeburg, SC; Clark-Atlanta University, Atlanta, GA; Delaware State University, Dover, DE; Dillard University, New Orleans, LA; Edward Waters College, Jacksonville, FL; Elizabeth City State University, Elizabeth City, NC; Grambling State University, Grambling, LA; Jackson State University, Jackson, MS; Jarvis Christian College, Hawkins, TX; Johnson C. Smith University, Charlotte, NC; Langston University, Langston, OK; Lincoln University of Missouri, Jefferson City, MO; Morehouse College, Atlanta, GA; Morgan State University, Baltimore, MD; North Carolina A&T State University, Greensboro, NC; Oakwood University, Huntsville, AL; Polytechnic University of Puerto Rico, San Juan, Puerto Rico; San Francisco University, San Francisco, CA; Savannah State University, Savannah, GA; South Carolina State University, Orangeburg, SC; Southern University, Baton Rouge, LA; Spelman College, Atlanta, GA; Texas Southern University, Houston, TX; Tougaloo College, Tougaloo, MS; United Negro College Fund Special Programs Corporation, Falls Church, VA; University of Arkansas at Pine Bluff, Pine Bluff, AR; University of Texas at El Paso, El Paso, TX; Voorheese College, Denmark, SC; Wilberforce University, Wilberforce, OH; and Winston-Salem State University, Winston-Salem, NC.

The general area of UNCFSP-RDC's planned activity is: (a) conduct research and development activities that advance the state-of-the-art as well as the scientific, technology, engineering and mathematical skills in the fields that are needed to develop and transition new technologies for national defense, homeland security, medicine, energy and space; (b) to enter into a Section 845 “Other Transactions” Agreement with the U.S. Army (the “Government”) for the funding of certain research and development to be conducted, in partnership with the Government, the Consortium and other Consortium Members, to enhance the capabilities of the U.S. Government and its departments and agencies in the fields utilizing science, technology, engineering and mathematics; (c) to increase the competitiveness of Historically Black Colleges and Universities and Other Minority Institutions including Hispanic Serving Institutions, Tribal Colleges and Universities and Other Minority Serving Institutions in Government research and development programs by partnering and collaborating with each other and the Government laboratories; (d) to provide a unified and coordinated message to the U.S. Government's Legislative Branch and the Departments of Defense, Homeland Security, Energy, and Health and Human Services and NASA as to the strategic importance of HBCUs and MIs in Federal research and development; and (e) to define programs and obtain program funding that is focused on the development of this under utilized national asset that will result in improvements or new research and development in all the sciences.

Additional information concerning the UNCFSP-RDC can be obtained from Mr. Darold L. Griffin, Organization Committee, UNCFSP-RDC, in care of Engineering and Management Executive, Inc. (EME), 101 South Whiting Street, Suite 204, Alexandria, VA 22304-3416, telephone (703) 212-8030, Ext. 224, fax (703) 212-8035, e-mail: emelbmt@aol.com; Mr. Michael J. Hester, Vice President, UNCF Special Programs Corporation, 6402 Arlington Boulevard, Suite 600, Falls Church, VA 22042, telephone (703) 205-8133, fax (703) 205-7651, e-mail: michael.hester@uncfsp.org; or Dr. James J. Valdes (PhD), Scientific Advisor for Biotechnology, U.S. Army Edgewood Chemical and Biological Center, ATTN: RDCB-DR, 5183 Blackhawk Road, Aberdeen Proving Ground, MD 21020-5424, telephone (410) 436-1396, fax (410) 436-3930, e-mail: james.valdes@us.army.mil.

Patricia A. Brink,
Director of Civil Enforcement, Antitrust Division.

[FR Doc. 2010-32430 Filed 12-27-10; 8:45 am]

BILLING CODE 4410-11-M